DEPARTMENT OF HEALTH AND HUMAN SERVICES

Health Resources And Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Healthy Schools, Healthy Communities Program Data Collection and Progress Report (OMB No. 0915-0188)—Revision.

This is a request for revision of approval of the Healthy Schools, Healthy Communities Program Data Collection, which contains the annual reporting requirements for the Healthy Schools, Healthy Communities grantees funded by the Bureau of Primary Health Care (BPHC), HRSA. Authorizing legislation is found in Public Law 104-299, Health Center Consolidation Act of 1996, enacting Section of the Public Health Service Act.

The Healthy Schools, Healthy Communities program provides comprehensive primary and preventive health care services. The purpose of the progress report is to collect data specific to school health services, such as service utilization, health problems and risk behaviors.

The estimated response burden is as follows:

Form | Number of respondents | Responses per respondent | Hours per response | Total burden hour
Progress Report | 400 | 1 | 2 | 800

Send comments to Susan G. Queen, Ph.D., HRSA Reports Clearance Officer, Room 14-33, Parklawn Building, 5600 Fishers Lane, Rockville, MD 20857. Written comments should be received on or before May 8, 2001.

Dated: March 3, 2001.
Jane M. Harrison,
Director, Division of Policy Review and Coordination.

[FR Doc. 01-5815 Filed 3-8-01; 8:45 am]

BILLING CODE 4160-15-P